ENVIRONMENTAL PROTECTION AGENCY

[EPA-HQ-OAR-2023-0135; FRL-12615-01-OMS]

Agency Information Collection Activities; Submission to the Office of Management and Budget for Review and Approval; Comment Request; NESHAP for Brick and Structural Clay Products Manufacturing (Renewal)

AGENCY: Environmental Protection Agency (EPA).

ACTION: Notice.

SUMMARY: The Environmental Protection Agency (EPA) has submitted an information collection request (ICR), NESHAP for Brick and Structural Clay Products Manufacturing (EPA ICR Number 2509.03, OMB Control Number 2030-0047) to the Office of Management and Budget (OMB) for review and approval in accordance with the Paperwork Reduction Act. This is a proposed extension of the ICR, which is currently approved through February 28, 2025. Public comments were previously requested via the Federal Register on May 18, 2023 during a 60-day comment period. This notice allows for an additional 30 days for public comments.

DATES: Comments may be submitted on or before March 31, 2025.

ADDRESSES: Submit your comments, referencing Docket ID Number EPA-HQ-OAR-2023-0135, to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division, Office of Air Quality Planning and Standard, D243-05, Environmental Protection Agency, 1200 Pennsylvania Ave. NW, Washington, DC 20460; telephone number: (919) 541-0833; email address: ali.muntasir@epa.gov.

SUPPLEMENTARY INFORMATION: This is a proposed extension of the ICR, which is currently approved through February 28, 2025. An agency may not conduct or sponsor and a person is not required to respond to a collection of information unless it displays a currently valid OMB control number.

Public comments were previously requested via the Federal Register on May 18, 2023 during a 60-day comment period (88 FR 31748). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The National Emission Standards for Hazardous Air Pollutants (NESHAP) for the regulations published at 40 CFR part 63, subpart JJJJJ were proposed on July 22, 2002, promulgated on May 16, 2003, and most recently amended on October 26, 2015 and December 4, 2015. These regulations apply to existing facilities and new facilities that manufacture brick, including face brick, structural brick, brick pavers, or other brick and/or structural clay products including clay pipe; roof tile; extruded floor and wall tile; or other extruded, dimensional clay products. New facilities include those that commenced construction, modification, or reconstruction after the date of proposal. This information is being collected to assure compliance with 40 CFR part 63, subpart JJJJJ.

Form Numbers: None.

Respondents/affected entities: Brick and structural clay products manufacturing facilities.

Respondent's obligation to respond: Mandatory (40 CFR part 63, subpart JJJJJ).

Estimated number of respondents: 57 (total).

Frequency of response: Initially and semiannually.

Total estimated burden: 33,373 hours (per year). Burden is defined at 5 CFR 1320.03(b).

Total estimated cost: $4,880,000 (per year), which includes $673,000 annualized capital or operation & maintenance costs.

Changes in the estimates: There is an increase of 12,410 hours in the total estimated respondent burden compared with the ICR currently approved by OMB. This increase is due to the standard being in effect for more than three years and the requirements are different during initial compliance as compared to on-going compliance. The previous ICR reflected the average burden and costs associated with the first three years after the 2015 final rulemaking. This included minimal activities in years one and two following promulgation, with increasing burden for years three through six. This ICR, by in large, reflects the on-going burden and costs for existing facilities, which are expected to be similar to the burden and costs estimated for year six in the previous ICR. The increase in burden and costs is offset somewhat by a decrease in the number of respondents from 69 to 57 existing sources. The overall result is an increase in burden hours and costs.

Courtney Kerwin,
Director, Information Engagement Division.

[FR Doc. 2025-03219 Filed 2-27-25; 8:45 am]

BILLING CODE 6560-50-P